DEPARTMENT OF JUSTICE

28 CFR Part 14

Administrative Claims Under the Federal Tort Claims Act; Delegation of Authority

AGENCY: Department of Justice.

ACTION: Final rule.

SUMMARY: On June 17, 2003, the Assistant Attorney General in charge of the Civil Division delegated to the Secretary of Homeland Security the authority to settle administrative tort claims presented pursuant to the Federal Tort Claims Act where the amount of the settlement does not exceed $50,000. By including this delegation of authority in the Code of Federal Regulations, the Civil Division is alerting the general public to the delegation. This rule also implements the Administrative Dispute Resolution Act.

EFFECTIVE DATE: August 19, 2008.

FOR FURTHER INFORMATION CONTACT: Phyllis J. Pyles, Director, Torts Branch, Civil Division, U.S. Department of Justice, P.O. Box 888, Washington, DC 20044, (202) 616-4400.

SUPPLEMENTARY INFORMATION: This rule is a delegation of authority from the Assistant Attorney General for the Civil Division to the Secretary of Homeland Security, a matter solely related to the division of responsibility between the Department of Justice and the Department of Homeland Security. As such, this rule is a rule of agency organization, procedure, and practice that is limited to matters of agency management and personnel. Accordingly: (1) This rule is exempt from the notice requirement of 5 U.S.C. * 553(b) and is made effective upon issuance; (2) the Department certifies under 5 U.S.C. * 605(b) that this rule will not have a significant economic impact on a substantial number of small entities and further that no Regulatory Flexibility Analysis was required to be prepared for this final rule since the Department was not required to publish a general notice of proposed rulemaking; (3) this action is not a “regulation” or “rule” as defined by Executive Order 12866, “Regulatory Planning and Review,” § 3(d)(3) and, therefore, this action has not been reviewed by the Office of Management and Budget.

This rule will not have substantial direct effects on the States, on the relationship between the national government and the States, or on distribution of power and responsibilities among the various levels of government. Therefore, in accordance with Executive Order 13132, “Federalism,” it is determined that this rule does not have sufficient federalism implications to warrant the preparation of a Federalism Assessment. This regulation meets the applicable standards set forth in sections 3(a) and 3(b)(2) of Executive Order 12988, “Civil Justice Reform.” This rule will not result in the expenditure by state, local, and tribal governments, in the aggregate, or by the private sector of $100,000,000 or more in any one year, and it will not significantly or uniquely affect small governments. Therefore, no actions were deemed necessary under the provisions of the Unfunded Mandates Reform Act of 1995.

Finally, this action pertains to agency management, personnel, and organization and does not substantially affect the rights or obligations of non-agency parties and, accordingly, is not a “rule” as that term is used by the Congressional Review Act (Subtitle E of the Small Business Regulatory Enforcement Fairness Act of 1996 (SBREFA)). Therefore, the reporting requirement of 5 U.S.C. * 801 does not apply.

List of Subjects in 28 CFR Part 14

Authority delegations (government agencies), Claims.

By virtue of the authority vested in me by part 0 of title 28 of the Code of Federal Regulations, including sections 0.45, 0.160, 0.162, 0.164, and 0.168, 28 CFR part 14 is amended as follows:

PART 14—ADMINISTRATIVE CLAIMS UNDER TITLE FEDERAL TORT CLAIMS ACT

1. The authority citation for part 14 is revised to read as follows:

Authority: 5 U.S.C. 301; 28 U.S.C. 509, 510, and 2672.

2. The appendix to part 14 is amended by adding at the end of the appendix “Delegation of Authority to the Secretary of the Department of Homeland Security” to read as follows:

APPENDIX TO PART 14—DELEGATIONS OF SETTLEMENT AUTHORITY

* * * * *

Delegation of Authority to the Secretary of the Department of Homeland Security Authority To Compromise Tort Claims

(a) The Secretary of the Department of Homeland Security shall have the authority to adjust, determine, compromise, and settle a claim involving the Department of Homeland Security under Section 2672 of Title 28, United States Code, relating to the administrative settlement of federal tort claims if the amount of the proposed adjustment, compromise, or award does not exceed $50,000. When the Secretary believes a claim pending before him presents a novel question of law or of policy, he shall obtain the advice of the Assistant Attorney General in charge of the Civil Division.

(b) The Secretary may redelegate, in writing, the settlement authority delegated to him under this section.

Dated: August 4, 2008.
Gregory G. Katsas,
Assistant Attorney General, Civil Division.

[FR Doc. E8-19045 Filed 8-18-08; 8:45 am]

BILLING CODE 4410-12-P